DEPARTMENT OF HOUSING AND URBAN DEVELOPMENT

[Docket No. FR-5339-N-05]

Housing Counseling Certification Examination Availability and Change To Certification Examination Cost

AGENCY: Office of the Assistant Secretary for Housing—Federal Housing Commissioner, HUD.

ACTION: Notice of Availability of the HUD Certified Housing Counselor Examination.

SUMMARY: This notice follows publication of the “Housing Counseling: New Certification Requirements” final rule, issued on December 14, 2016, which requires that HUD announce the availability of the Housing Counselor Examination and start the 36-month time-period for individuals and Housing Counseling Agencies to come into compliance with the final rule's certification requirements. The final rule also noted that HUD would provide notice of any changes to the cost of the Housing Counselor Examination. Through this notice, HUD is announcing that the HUD Certified Housing Counselor Examination will be available starting on August 1, 2017, and that as of August 1, 2020, housing counseling required by or provided in connection with HUD programs may only be provided by HUD certified housing counselors working for participating agencies approved to provide such housing counseling by HUD's Office of Housing Counseling. This notice also announces a reduction to the cost of the Housing Counselor Examination.

DATES: Availability of HUD Certified Housing Counselor Examination: August 1, 2017.

FOR FURTHER INFORMATION CONTACT: Lorraine Griscavage-Frisbee at Office of Housing Counseling, Office of Housing, Department of Housing and Urban Development, 302 Carson Street, Las Vegas, Nevada 89101, telephone number 702-366-2126 (this is not a toll-free number). Persons with hearing or speech challenges may access this number through TTY by calling the toll-free Federal Relay Service at 800-877-8339. Questions can also be addressed to Lorraine Griscavage-Frisbee, Office of Housing Counseling, at housing.counseling@hud.gov. Please include “Housing Counseling Program: Certification Examination” in the subject line of the email.

SUPPLEMENTARY INFORMATION:

I. Background

Section 106 of the Housing and Urban Development Act of 1968 (12 U.S.C. 1701x) (Section 106) was amended by Subtitle D of title XIV of the Dodd-Frank Wall Street Reform and Consumer Protection Act (Public Law 111-203, 124 Stat. 1376, approved July 21, 2010) to strengthen and improve the effectiveness of housing counseling that is required under or provided in connection with HUD programs (Section 106 amendments). The Section 106 amendments require that individuals providing housing counseling required under or provided in connection with HUD programs be certified by taking and passing an examination administered by HUD's Office of Housing Counseling (HUD certified housing counselors) (12 U.S.C. 1701x(e)). On December 14, 2016, HUD published a final rule implementing the Section 106 certification requirements. The final rule states, in part, that within 36 months of the issuance of the certification examination housing counseling required by or in connection with HUD programs may only be provided by HUD certified housing counselors working for HUD-approved housing counseling agencies (HCAs) ¹ that are approved to provide such housing counseling by HUD's Office of Housing Counseling. See 81 FR 90632. The final rule also provided that the cost for taking the examination would be $100 for online testing at the examinee's location and $140 at a proctoring site, and any future changes to the cost would be announced by Federal Register notice.

¹ HUD-approved organizations, intermediaries, multistate organizations, state housing finance agencies, and their branches and affiliates (collectively referred to as Housing Counseling Agencies, or HCAs).

This notice announces the availability of the certification examination beginning August 1, 2017. This Notice also provides the deadline of August 1, 2020 (36 months) within which all housing counselors and HCAs must satisfy the certification requirements in the final rule. This notice also announces that the cost for taking the examination has been reduced. The cost for online testing at the examinee's location will now be $60 and at a proctoring site the cost will be $100. Information about the examination, including registration, costs, and examination locations is available at www.hudhousingcounselors.com.

As required by Section 106 and HUD's regulations, as of August 1, 2020, housing counseling required by or in connection with HUD programs may only be provided by HUD certified housing counselors working for HCAs that are approved to provide such housing counseling by HUD's Office of Housing Counseling.

II. Tribes

As HUD noted in the final rule, application of the of the Section 106 certification examination requirements will only apply to Indian tribes and tribal entities after HUD undergoes tribal consultation and addresses the participation of tribes in HUD's Housing Counseling Program in future rulemaking or guidance, as appropriate.

Dated: May 24, 2017.
Genger M. Charles,
General Deputy Assistant Secretary for Housing.

[FR Doc. 2017-11213 Filed 5-30-17; 8:45 am]

BILLING CODE 4210-67-P